DEPARTMENT OF TRANSPORTATION

Federal Aviation Administration

14 CFR Part 39

[Docket No. FAA-2010-0704; Directorate Identifier 2010-NM-037-AD; Amendment 39-16389; AD 2010-16-12]

RIN 2120-AA64

Airworthiness Directives; The Boeing Company Model 777-200LR and -300ER Series Airplanes Equipped with GE90-100 Series Engines

AGENCY: Federal Aviation Administration (FAA), DOT.

ACTION: Final rule; request for comments.

SUMMARY: We are adopting a new airworthiness directive (AD) for certain Model 777-200LR and -300ER series airplanes equipped with GE90-100 series engines. This AD requires replacing the insulation blanket fasteners of the lower aft cowl of the thrust reverser. This AD also requires inspecting the oil scavenge tube on the turbine rear frame of the engine for damage, and replacement if necessary. This AD results from a determination of insufficient clearance and subsequent interference between the oil scavenge tube on the turbine rear frame of the engine and the bolt on the aft cowl insulation blanket of the thrust reverser. We are issuing this AD to prevent damage and possible puncture of the oil scavenge tube and consequent oil loss, which could result in an in-flight shutdown of the engine.

DATES: This AD is effective August 30, 2010.

The Director of the Federal Register approved the incorporation by reference of certain publications listed in the AD as of August 30, 2010.

We must receive comments on this AD by September 27, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Margaret Langsted, Aerospace Engineer, Propulsion Branch, ANM-140S, FAA, Seattle Aircraft Certification Office, 1601 Lind Avenue, SW., Renton, Washington 98057-3356; telephone (425) 917-6500; fax (425) 917-6590.

SUPPLEMENTARY INFORMATION:

Discussion

Boeing has determined that insufficient clearance and subsequent interference exists between the oil scavenge tube on the turbine rear frame of the engine and the bolt on the aft cowl insulation blanket. This location could encounter interference under flight loads. Damage to the oil scavenge tube was confirmed after flight on undelivered airplanes. Several in-service airplanes had sustained damage (dents, gouges, or chafing) because of the interference condition. This condition, if not corrected, could result in possible puncture of the oil scavenge tube and consequent oil loss, resulting in an in-flight shutdown of the engine.

Relevant Service Information

We reviewed Boeing Alert Service Bulletin 777-78A0070, dated November 20, 2008. This service bulletin describes procedures for replacing the insulation blanket fasteners of the lower aft cowl of the thrust reverser.

Boeing Alert Service Bulletin 777-78A0070, dated November 20, 2008, specifies prior or concurrent accomplishment of an inspection of the oil scavenge tube on the turbine rear frame of the engine for damage, and replacement if damage is found, in accordance with General Electric GE90-100 Service Bulletin 79-0017, dated March 3, 2008.

FAA's Determination and Requirements of This AD

No airplanes affected by this AD are on the U.S. Register. We are issuing this AD because the unsafe condition described previously is likely to exist or develop on other products of the same type design that could be registered in the United States in the future. This AD requires replacing the insulation blanket fasteners of the lower aft cowl of the thrust reverser. This AD also requires inspecting the oil scavenge tube on the turbine rear frame of the engine for damage, and replacement if necessary.

Since no airplanes are affected by this AD, notice and opportunity for public comment before issuing this AD are unnecessary.

Comments Invited

This AD is a final rule that involves requirements affecting flight safety, and we did not provide you with notice and an opportunity to provide your comments before it becomes effective. However, we invite you to send any written data, views, or arguments about this AD. Send your comments to an address listed under the ADDRESSES section. Include “Docket No. FAA-2010-0704; Directorate Identifier 2010-NM-037-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-16-12 The Boeing Company: Amendment 39-16389. Docket No. FAA-2010-0704; Directorate Identifier 2010-NM-037-AD.

Effective Date

(a) This airworthiness directive (AD) is effective August 30, 2010.

Affected ADs

(b) None.

Applicability

(c) This AD applies to The Boeing Company Model 777-200LR and -300ER series airplanes, certificated in any category; as identified in Boeing Alert Service Bulletin 777-78A0070, dated November 20, 2008.

Subject

(d) Air Transport Association (ATA) of America Code 78: Engine exhaust.

Unsafe Condition

(e) This AD results from a determination of insufficient clearance and subsequent interference between the oil scavenge tube on the turbine rear frame of the engine and the bolt on the aft cowl insulation blanket of the thrust reverser. The Federal Aviation Administration is issuing this AD to prevent damage and possible puncture of the oil scavenge tube and consequent oil loss, which could result in an in-flight shutdown of the engine.

Compliance

(f) You are responsible for having the actions required by this AD performed within the compliance times specified, unless the actions have already been done.

Fastener Replacement

(g) Within 180 days or 300 flight cycles after the effective date of this AD, whichever is later: Replace the insulation blanket fasteners of the lower aft cowl of the thrust reverser, in accordance with the Accomplishment Instructions of Boeing Alert Service Bulletin 777-78A0070, dated November 20, 2008.

Inspect and Replace

(h) Before or concurrently with accomplishing the requirements in paragraph (g) of this AD: Do a detailed inspection of the oil scavenge tube on the turbine rear frame of the engine for damage, in accordance with the Accomplishment Instructions of General Electric GE90-100 Service Bulletin 79-0017, dated March 3, 2008. If any damage is found, before further flight, replace the tube, in accordance with the Accomplishment Instructions of General Electric GE90-100 Service Bulletin 79-0017, dated March 3, 2008.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(i)(1) The Manager, Seattle Aircraft Certification Office, FAA, has the authority to approve AMOCs for this AD, if requested using the procedures found in 14 CFR 39.19. Send information to ATTN: Margaret Langsted, Aerospace Engineer, Propulsion Branch, ANM-140S, FAA, Seattle Aircraft Certification Office, 1601 Lind Avenue, SW., Renton, Washington 98057-3356; telephone (425) 917-6500; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(j) You must use Boeing Alert Service Bulletin 777-78A0070, dated November 20, 2008; and General Electric GE90-100 Service Bulletin 79-0017, dated March 3, 2008; as applicable; to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 27, 2010.
Ali Bahrami,
Manager, Transport Airplane Directorate, Aircraft Certification Service.

[FR Doc. 2010-19293 Filed 8-12-10; 8:45 am]

BILLING CODE 4910-13-P